DEPARTMENT OF HOMELAND SECURITY

Coast Guard

[Docket No. USCG-2010-0535]

Certificate of Alternative Compliance for the Offshore Supply Vessel SOUTHERN CROSS

AGENCY: Coast Guard, DHS.

ACTION: Notice.

SUMMARY: The Coast Guard announces that a Certificate of Alternative Compliance was issued for the offshore supply vessel SOUTHERN CROSS as required by 33 U.S.C. 1605(c) and 33 CFR 81.18.

DATES: The Certificate of Alternate Compliance was issued on June 7, 2010.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2010-0535 in the “Keyword” box, pressing Enter, and then clicking “Search.”

FOR FURTHER INFORMATION CONTACT: If you have questions on this notice, call LTJG Christine Dimitroff, District Eight, Prevention Branch, U.S. Coast Guard, telephone 504-671-2176. If you have questions on viewing or submitting material to the docket, call Renee V. Wright, Program Manager, Docket Operations, telephone 202-366-9826.

SUPPLEMENTARY INFORMATION:

Background and Purpose

A Certificate of Alternative Compliance, as allowed for under Title 33, Code of Federal Regulation, Parts 81 and 89, has been issued for the offshore supply vessel SOUTHERN CROSS, O.N. 1223869. Full compliance with 72 COLREGS and the Inland Rules Act would hinder the vessel's ability to conduct loading and unloading operations, and would hinder the vessel's ability to maneuver within close proximity to offshore platforms. Placing the aft masthead light at the horizontal distance from the forward masthead light as required by Annex I, paragraph 3(a) of the 72 COLREGS, and Annex I, Section 84.05(a) of the Inland Rules Act, would result in an aft masthead light location directly over the aft cargo deck where it would interfere with loading and unloading operations and would make the mast highly susceptible to damage during such operations. Therefore, the horizontal distance between the forward and aft masthead lights may be 23′″-1⅛″, placing the aft masthead light over the pilot house.

In addition, due to the design of the vessel it would be difficult and impractical to build a supporting structure that would put the side lights within 10% inboard from the greatest breadth of the vessel, as required by Annex I, paragraph 3(b) of the 72 COLREGS and Annex I, Section 84.05(b), of the Inland Rules Act. Compliance with the rule would cause the side lights to be in a location which would be highly susceptible to damage from offshore platforms.

Locating the side lights 7′″- 9⅝″ inboard from the greatest breadth of the vessel on the pilot house will provide a sheltered location for the lights and allow maneuvering within close proximity to offshore platforms.

The Certificate of Alternative Compliance allows for the placement of the side lights to deviate from requirements set forth in Annex I, paragraph 3(b) of 72 COLREGS, and Annex I, paragraph 84.05(b) of the Inland Rules Act. In addition, the Certificate of Alternative Compliance allows for the horizontal separation of the forward and aft masthead lights to deviate from the requirements of Annex I, paragraph 3(a) of 72 COLREGS, and Annex I, Section 84.05(a) of the Inland Rules Act.

This notice is issued under authority of 33 U.S.C. 1605(c), and 33 CFR 81.18.

Dated: June 8, 2010.
RS Keister,
Commander, U.S. Coast Guard, Chief, Inspections Section, By Direction of the Commander, Eighth Coast Guard District.

[FR Doc. 2010-15275 Filed 6-23-10; 8:45 am]

BILLING CODE 9110-04-P